FEDERAL MARITIME COMMISSION

Ocean Transportation Intermediary License Applicants

Notice is hereby given that the following applicants have filed with the Federal Maritime Commission an application for license as a Non-Vessel—Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel—Operating Common Carrier Ocean Transportation Intermediary Applicants

Horizon Lines of Guam, LLC, 4064 Colony Road, Suite 200, Charlotte, NC 28211. Officers: Brian Taylot, President (Qualifying Individual), Mar F. Labrador, Vice President.

Universal Freight Systems, Inc., 1601 Brummel Avenue, Elk Grove, IL 60007. Officer: Ada Chang, President (Qualifying Individual).

Grupo Delpa Corp, 1810 N.W. 96th Avenue, Doral, FL 33172. Officers: Lucila Rosario, Treasurer (Qualifying Individual), Cecilia M. Lima, President.

ACM International, Corp. dba ACM Cargo, 1141 Acadia Avenue, #2, Acadia, CA 91007. Officers: Yi Jie, Wan, Vice President (Qualifying Individual), Yun, Bai, President.

FIL Lines USA Inc., 175-01 Rockaway Blvd., Suite 305, Jamaica, NY 11434. Officers: Martin Huen, President (Qualifying Individual), Harry Taurani, Vice President.

TW Solutions Inc., 15-05 132nd Street, College Point, NY 11356. Officers: Hsin-Hauan Chen, President (Qualifying Individual).

Non-Vessel—Operating Common Carrier and Ocean Freight Forwarder Transportation Intermediary Applicants

D.C. Worldwide Logistics, LLC dba Transgroup, International dba Transfreight Express Lines dba Transgroup International, 44965 Aviation Drive, Suite 303, Dulles, VA 20166. Officers: Greg Vernoy, Member (Qualifying Individual), Matthew Trachtman, Member/Manager.

TBD Services, Inc. dba Transgroup International dba Transfreight Express Lines dba Transgroup International, 940 Aldrin Drive, Suite 110, Eagan, MN 55121. Officer: Michelle Lynn Frank, President (Qualifying Individual).

Watership Ltd, dba Transgroup International dba Transfreight Express Lines dba Transgroup International, 650 Atlanta South Parkway, Suite 100, Atlanta, GA 30349. Officers: Raymond L. Bachman, President (Qualifying Individual), Tamara Barnes, Secretary.

Idaho Specialized Transportation, Inc. dba Transgroup International dba Transfreight Express Lines dba Transgroup International, 1287 Boeing Street, Boise, ID 83705. Officers: Clay Sauer, President (Qualifying Individual), Jesper Bach, Vice President.

Gateway Logistics, LLC dba Transgroup International dba Transfreight Express Lines dba Transgroup International, 4700 Oakland Street, Suite 160, Denver, CO 80239. Officers: Laura Gravina, Vice President (Qualifying Individual), Linda Gravina, President.

World Cargo Express, Inc., 4701 W. Imperial Hwy., Suite 202, Inglewood, CA 90304. Officers: John Chang, President (Qualifying Individual), Gary Dorian, Vice President.

Fortune Logistics (USA) Inc., 3770 West Century Blvd., Inglewood, CA 90303. Officer: Paul Tak Po Chow, CEO (Qualifying Individual).

Dated: June 30, 2006.
Bryant L. VanBrakle,
Secretary.

[FR Doc. E6-10544 Filed 7-5-06; 8:45 am]

BILLING CODE 6730-01-P